NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 30, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Economic Research Service (N1-354-09-1, 38 items, 26 temporary items). Routine correspondence files, background files for speeches, delegations of authority, management improvement program files, emergency preparedness records, minutes of lower level staff meetings, information technology plans, and other records relating to administrative matters and day-to-day operations. Proposed for permanent retention are such overall program and policy records as significant correspondence, speeches, legal opinions, records of boards and committees, minutes of high level staff meetings, directives, publications, and historical narratives.

2. Department of Defense, Defense Threat Reduction Agency (N1-374-09-1, 1 item, 1 temporary item). Master files associated with an electronic information system used to track such matters as manpower authorizations, recruitment actions, and security clearance requirements for positions.

3. Department of Defense, Defense Threat Reduction Agency (N1-374-09-2, 1 item, 1 temporary item). Investigative records, including reports, witness statements, and decisions. Records relate to agency employees and contractors suspected of malfeasance or other improper activities.

4. Department of Health and Human Services, Office of the Secretary) N1-468-09-5, 1 item, 1 temporary item). Master files of an electronic information system that contains information collection request forms and supporting documentation prepared to secure approval from the Office of Management Budget.

5. Department of Justice, Agency-wide (N1-60-09-31, 7 items, 7 temporary items). Master files associated with an electronic information system used to manage training. Included is data concerning course content, participants, and instructors.

6. Department of Justice, Criminal Division (N1-60-08-22, 1 item, 1 temporary item). Master files associated with an electronic information system used to track requests for special attorney search warrants and subpoenas.

7. Department of Justice, Federal Bureau of Investigation (N1-65-09-11, 3 items, 3 temporary items). This schedule reduces the retention period of inputs into the Terrorist Screening and Operations Unit Log System, which were previously approved for disposal. Also included are packets of information concerning watchlist individuals provided by other agencies.

8. Department of Justice, Federal Bureau of Investigation (N1-65-09-18, 4 items, 3 temporary items). Records related to testing and auditing an electronic collaboration tool used for communications relating to operations regarding Weapons of Mass Destruction Render Safe Operations. Communications relating to actual weapons of mass destruction events are proposed for permanent retention.

9. Department of Justice, Federal Bureau of Investigation (N1-65-09-23, 3 items, 3 temporary items). Preliminary Uniform Crime Reporting Program reports and audit logs. This schedule reduces the retention period of these records, which were previously approved for disposal. Also included are requests for copies of reports and related information. Final Uniform Crime Reporting reports were previously approved for permanent retention.

10. Department of Justice, Federal Bureau of Investigation (N1-65-09-26, 3 items, 3 temporary items). Master files, outputs, and audit records associated with an electronic information system that contains course evaluation data provided by participants.

11. Department of the Navy, United States Marine Corps (N1-127-08-1, 1 item, 1 temporary item). Master files associated with an electronic information system used to process separations of enlisted personnel from the reserve forces.

12. Department of the Navy, United States Marine Corps (N1-127-09-2, 1 item, 1 temporary item). Master files associated with an electronic information system used to track separations and retirements of officers and enlisted personnel.

13. Department of the Navy, United States Marine Corps (N1-127-09-4, 1 item, 1 temporary item). Master files associated with an electronic information system used in connection with force structure and manpower scenario development. Data includes unit tables of organization and information concerning personnel, including training received and physical fitness scores.

14. Department of the Navy, United States Marine Corps (N1-127-09-5, 1 item, 1 temporary item). Master files associated with an electronic information system containing modeling and decision support functionality required to support the manpower development process. Data includes unit tables of organization and information concerning personnel, including training received and physical fitness scores.

15. Department of Transportation, Federal Highway Administration (N1-406-08-11, 30 items, 28 temporary items). Records of the Office of the Chief Counsel, including such records as administrative files, non-rulemaking notices, monthly reports, litigation files, tort files, and reference papers. Proposed for permanent retention are rulemaking notices and legal precedent files.

16. Department of Transportation, Federal Highway Administration (N1-406-09-15, 1 item, 1 temporary item). Master files associated with a Web-based electronic information system that contains examples of streamlining and stewardship practices adopted by States to fulfill their obligations under the National Environmental Policy Act.

17. Department of the Treasury, Departmental Offices (N1-56-09-18, 4 items, 4 temporary items). Master files, inputs, outputs, and system documentation associated with an electronic information system used to track Office of Counsel incoming correspondence.

18. Department of the Treasury, Community Development Financial Institution (N1-56-09-11, 3 items, 3 temporary items). Master files, outputs, and system documentation associated with an electronic information system used for compliance monitoring of monetary awards granted to financial institutions for community development purposes.

19. Department of the Treasury, Internal Revenue Service (N1-58-09-106, 2 items, 2 temporary items). Outputs and system documentation associated with an electronic information system used to generate reports based on electronic filings of business and individual tax returns.

20. Department of the Treasury, Internal Revenue Service (N1-58-09-107, 2 items, 2 temporary items). Master files and system documentation associated with an electronic information system used to process data relating to payments made by the Social Security Administration and Railroad Retirement Board.

21. Department of the Treasury, Internal Revenue Service (N1-58-09-108, 2 items, 2 temporary items). Master files and system documentation associated with an electronic information system used to maintain data from business tax returns that may be analyzed by field tax examiners.

22. Department of the Treasury, Internal Revenue Service (N1-58-09-109, 2 items, 2 temporary items). Master files and system documentation associated with an electronic information system used to maintain tax return data that may be analyzed by field tax examiners.

23. Department of the Treasury, Internal Revenue Service (N1-58-09-110, 3 items, 3 temporary items). Master files, outputs, and system documentation associated with an electronic information system used to provide support to taxpayers using the agency's electronic products.

24. Department of the Treasury, Internal Revenue Service (N1-58-09-113, 3 items, 3 temporary items). Master files, outputs, and system documentation associated with an electronic information system used to house and summarize data used for business performance analysis.

25. National Aeronautics and Space Administration, Agency-wide (N1-255-09-1, 573 items, 573 temporary items). Records relating to such matters as legal issues, procurement, program formulation and management, inspector general activities, financial management, property and supply, industrial relations, personnel administration, and transportation. Paper and other hard copies of these records were previously approved for disposal.

26. National Archives and Records Administration, Office of Presidential Libraries (DAA-0064-2010-0001, 4 items, 4 temporary items). Records included in an electronic information system used by Presidential libraries to document and manage items in their museum collections. Included is descriptive information concerning individual items, such as measurements, name of producer, and data concerning its acquisition, information concerning the use of items in exhibits, data concerning preservation actions, and information concerning people and publications related to items.

27. Securities and Exchange Commission, Division of Trading and Markets (N1-266-09-3, 1 item, 1 temporary item). Master files of an electronic information system used to track recommendations that result from inspections of the technology systems used by exchanges.

Dated: October 27, 2009.
Michael J. Kurtz,
Assistant Archivist for Records Services—Washington, DC.

[FR Doc. E9-26279 Filed 10-29-09; 8:45 am]

BILLING CODE 7515-01-P